DEPARTMENT OF LABOR

Employment and Training Administration

[TA-W-40,569]

Tama Sportswear, a/k/a Dave Goldberg, Inc., Long Island City, NY Amended Certification Regarding Eligibility To Apply for Worker Adjustment Assistance

In accordance with Section 223 of the Trade Act of 1974 (19 USC 2273) the Department of Labor issued a Certification of Eligibility to Apply for Worker Adjustment Assistance on April 25, 2002, applicable to all workers of Tama Sportswear, located in Long Island City, New York. The notice was published in the Federal Register on May 2, 2002 (67 FR 22113).

At the request of the State agency, the Department reviewed the certification for workers of the subject firm. The workers are engaged in the production of women's swimwear. New information provided by the State and a company official show that Dave Goldberg is the parent company of Tama Sportswear. Some workers wages are reported to the Unemployment Insurance tax account for Dave Goldberg, Inc.

The intent of the certification is to provide coverage to all workers of the subject firm impacted by increased imports of swimwear. Therefore, the Department is amending the certification to include all workers of the firm whose wages are reported to Dave Goldberg, Inc.

The amended notice applicable to TA-W-40,569 is hereby issued as follows:

All workers of Tama Sportswear, also known as Dave Goldberg, Inc., Long Island City, New York, who became totally or partially separated from employment on or after November 6, 2000, through April 25, 2004, are eligible to apply for adjustment assistance under Section 223 of the Trade Act of 1974.

Signed in Washington, DC this 15th day of July 2002.
Linda G. Poole,
Certifying Officer, Division of Trade Adjustment Assistance.

[FR Doc. 02-18632 Filed 7-23-02; 8:45 am]

BILLING CODE 4510-30-P